DEPARTMENT OF TRANSPORTATION

Pipeline and Hazardous Materials Safety Administration

[Docket ID PHMSA-2014-0092]

Pipeline Safety: National Pipeline Mapping System; Extension of Comment Period and Notice of Operator Workshop

AGENCY: Pipeline and Hazardous Materials Safety Administration (PHMSA), DOT.

ACTION: Notice and request for comments; extension of comment period and announcement of a National Pipeline Mapping System Operator Technical Workshop.

SUMMARY: PHMSA is sponsoring a one-day National Pipeline Mapping System (NPMS) operator technical workshop on November 18, 2015, at a Washington, DC area hotel. This notice also announces that the comment period for the 60-day information collection published on August 27, 2015, (80 FR 52084) is extended until November 25, 2015, in order to conduct this workshop that will provide PHMSA with important information as it prepares to improve the NPMS submission process to accept additional data.

DATES: The NPMS operator technical workshop will be held on November 18, 2015, at a Washington, DC-area hotel, from 8:00 a.m. to 5:00 p.m. The comment period for the 60-day information collection published on August 27, 2015 (80 FR 52084) is extended from October 26, 2015 to November 25, 2015.

ADDRESSES: The workshop location, and hotel information will be announced in PRIMIS at https://primis.phmsa.dot.gov/meetings/MtgHome.mtg?mtg=107 once the conference room space has been procured.

FOR FURTHER INFORMATION CONTACT: Amy Nelson at 202-493-0591 or by email at amy.nelson@dot.gov.

SUPPLEMENTARY INFORMATION: The purpose of the workshop is to discuss and understand existing and future NPMS submission technical issues such as (1) the format in which operators are storing the data that is submitted to the NPMS, (2) how pipe segmentation for the submissions is determined, (3) how data is submitted in a linear referencing format, and (4) options Geographic Information Systems technicians have when an attribute includes the word “predominant” (i.e., submitting actual data or rolling up data to create a “predominant” value). This workshop will not discuss any proposed new data elements (attributes) or operators' opinions on the new data elements (attributes). Because this workshop will rely heavily on dialogue between PHMSA staff and operators in a “whiteboard” environment, the workshop will not be webcast.

Registration: Members of the public may attend this pubic meeting for free. To help assure that adequate space is provided, all attendees are encouraged to register for the workshop at https://primis.phmsa.dot.gov/meetings/MtgHome.mtg?mtg=107. Name badge pick up and on-site registration will be available starting at 7:30 a.m., eastern time on November 18, 2015, with the workshop taking place from 8:00 a.m. until approximately 5:00 p.m. eastern time. Refer to the meeting Web site for agenda and times at https://primis.phmsa.dot.gov/meetings/MtgHome.mtg?mtg=107.

Comments: Members of the public may also submit written comments regarding the NPMS Information Collection until November 25, 2015. Comments should reference Docket ID PHMSA-2014-0092. Comments may be submitted in the following ways:

• E-Gov Web site: http://www.regulations.gov. This site allows the public to enter comments on any Federal Register notice issued by any agency. Follow the instructions for submitting comments.

• Fax: 1-202-493-2251.

• Mail: Docket Management System, U.S. Department of Transportation (DOT), 1200 New Jersey Avenue SE., Room W12-140, Washington, DC 20590.

Hand Delivery: DOT Docket Management System, Room W12-140, on the ground floor of the West Building, 1200 New Jersey Avenue SE., Washington, DC between 9:00 a.m. and 5:00 p.m., Monday through Friday, except Federal holidays.

Instructions: Identify the Docket ID at the beginning of your comments. If you submit your comments by mail, submit two copies. If you wish to receive confirmation that PHMSA has received your comments, include a self-addressed stamped postcard. Internet users may submit comments at http://www.regulations.gov.

Note: Comments will be posted without changes or edits to http://www.regulations.gov including any personal information provided.

Privacy Act Statement: Anyone may search the electronic form of all comments received for any of our dockets. You may review DOT's complete Privacy Act Statement in the Federal Register published April 11, 2000, (65 FR 19477).

Information on Services for Individuals with Disabilities: For information on facilities or services for individuals with disabilities, or to request special assistance at the meeting, please contact Amy Nelson at (202) 493-0591 or by email at amy.nelson@dot.gov by November 9, 2015.

Issued in Washington, DC, on October 20, 2015, under authority delegated in 49 CFR 1.97.
Alan K. Mayberry,
Deputy Associate Administrator for Policy and Programs.

[FR Doc. 2015-27120 Filed 10-23-15; 8:45 am]

BILLING CODE 4910-60-P